DEPARTMENT OF JUSTICE

Drug Enforcement Administration

[Docket Nos. 05-13 and 05-45]

Sunny Wholesale, Inc. Revocation of Registration and Denial of Application; Correction

On October 3, 2008, the Drug Enforcement Administration (DEA) published an order in the Federal Register (73 FR 57655) that, among other things, revoked the registration of Sunny Wholesale, Inc. In the order taking this action, the DEA Certificate of Registration was incorrectly cited. The correct Certificate of Registration for Sunny Wholesale, Inc., 120 Forest Parkway, Forest Park, Georgia, is 004550SLY.

Therefore, the Certificate of Registration referenced at 73 FR 57668, first column, sixth line down, is corrected to read “004550SLY.”

Dated: October 6, 2008.
Michele M. Leonhart,
Deputy Administrator.

[FR Doc. E8-24305 Filed 10-10-08; 8:45 am]

BILLING CODE 4410-09-P